DEPARTMENT OF DEFENSE

32 CFR Chs. I, V, VI, and VII

33 CFR Ch. II

36 CFR Ch. III

48 CFR Ch. II

Improving Government Regulations; Unified Agenda of Federal Regulatory and Deregulatory Actions

AGENCY: Department of Defense (DoD).

ACTION: Semiannual Regulatory Agenda.

SUMMARY: This agenda announces the regulatory actions the Department of Defense (DoD) plans to take in the next 12 months and those regulatory actions completed since the publication of the spring 2023 Unified Agenda. It was developed under the guidelines of Executive Order 12866, “Regulatory Planning and Review,” and Executive Order 13563, “Improving Regulation and Regulatory Review.” This agenda includes regulatory actions that support the Administration's regulatory priorities, the Secretary of Defense's top priorities to defend the Nation, take care of our people, and succeed through teamwork, as well as those priorities of the National Defense Strategy. These actions include efforts to promote the country's economic resilience; address healthcare issues; support underserved communities and improve small business opportunities; promote competition in the American economy; promote diversity, equity, inclusion, and accessibility in the Federal workforce; support national security efforts, especially safeguarding Federal Government information and information technology systems; tackle the climate crisis; and address military family matters. Members of the public may submit comments on individual proposed and interim final rulemakings at www.regulations.gov during the comment period that follows publication in the Federal Register. Additionally, specific agenda entries include information on public participation and community outreach efforts conducted or planned for those regulatory entries.

This agenda updates the report published on June 13, 2023, and includes regulations expected to be issued and under review over the next 12 months. The next agenda will publish in the spring of 2024.

The complete Unified Agenda will be available online at www.reginfo.gov.

In accordance with the Regulatory Flexibility Act (5 U.S.C. 602), which requires agencies to publish its regulatory flexibility agendas in the Federal Register, the Department of Defense's printed agenda entries in the Federal Register include only:

(1) rules that are in the Agency's regulatory flexibility agenda, in accordance with the Regulatory Flexibility Act, because they are likely to have a significant economic impact on a substantial number of small entities; and

(2) Any rules that the Agency has identified for periodic review under section 610 of the Regulatory Flexibility Act.

Although printing of these entries is limited to fields that contain information required by the Regulatory Flexibility Act's agenda requirements, additional information on these entries is in the Unified Agenda available online.

FOR FURTHER INFORMATION CONTACT: For information concerning the overall DoD regulatory program and for general semiannual agenda information, contact Ms. Patricia Toppings, telephone 571-372-0485, or write to Office of the Assistant to the Secretary of Defense for Privacy, Civil Liberties, and Transparency, Regulatory Directorate, 1155 Defense Pentagon, Washington, DC 20301-1155, or email: patricia.l.toppings.civ@mail.mil.

For questions of a legal nature concerning the agenda and its statutory requirements or obligations, write to Office of the General Counsel, 1600 Defense Pentagon, Washington, DC 20301-1600, telephone 703-695-1853, or email: gerald.j.dziecichowicz.civ@mail.mil.

For general information on Office of the Secretary regulations, other than those which are procurement- related, contact Ms. Patricia Toppings, telephone 571-372-0485, or write to Office of the Assistant to the Secretary of Defense for Privacy, Civil Liberties, and Transparency, Regulatory Directorate, 1155 Defense Pentagon, Washington, DC 20301-1155, or email: patricia.l.toppings.civ@mail.mil.

For general information on Office of the Secretary regulations which are procurement-related, contact Ms. Jennifer Johnson, telephone 703-717-8226, or write to Office of the Under Secretary of Defense for Acquisition and Sustainment, Defense Pricing and Contracting, Defense Acquisition Regulations System, Room 3B938, 3060 Defense Pentagon, Washington, DC 20301-3060, or email: jennifer.d.johnson1.civ@mail.mil.

For general information on Department of the Army regulations, contact Mr. James “Jay” Satterwhite, telephone 571-515-0304, or write to the U.S. Army Records Management and Declassification Agency, ATTN: AAHS-RDO, Building 1458, 9301 Chapek Road, Ft. Belvoir, VA 22060-5605, or email: james.w.satterwhite.civ@mail.mil.

For general information on the U.S. Army Corps of Engineers regulations, contact Ms. Stacey Jensen, telephone 703-459-6026, or write to Office of the Assistant Secretary of the Army (Civil Works), 108 Army Pentagon, Room 3E441, Washington, DC 20310-0108, or email: stacey.m.jensen.civ@army.mil.

For general information on Department of the Navy regulations, contact LCDR Jessica Koningisor, telephone 703-614-5366, or write to Department of the Navy, Office of the Judge Advocate General, Administrative Law Division (Code 13), Washington Navy Yard, 1322 Patterson Avenue SE, Suite 3000, Washington, DC 20374-5066, or email: jessica.e.koningisor.mil@us.navy.mil.

For general information on Department of the Air Force regulations, contact Mr. Robert Bivins, telephone 703-693-7302, or write the Office of the Secretary of the Air Force, Chief, Information Dominance/Chief Information Officer (SAF CIO/A6), 1800 Air Force Pentagon, Washington, DC 20330-1800, or email: usaf.pentagon.saf-cio-a6.mbx.af-foia@mail.mil.

For specific agenda items, contact the appropriate individual indicated for each regulatory action.

SUPPLEMENTARY INFORMATION: This edition of the Unified Agenda of Federal Regulatory and Deregulatory Actions reports on actions planned by the Office of the Secretary of Defense, the Military Departments, the Office of the Under Secretary of Defense for Acquisition and Sustainment for procurement-related actions, and the U.S. Army Corps of Engineers.

This agenda also identifies rules impacted by the:

a. Regulatory Flexibility Act.

b. Paperwork Reduction Act of 1995.

c. Unfunded Mandates Reform Act of 1995.

Generally, rules discussed in this agenda will contain five sections: (1) pre-rule stage; (2) proposed rule stage; (3) final rule stage; (4) completed actions; and (5) long-term actions. Where certain regulatory actions indicate that small entities are affected, the effect on these entities may not necessarily have significant economic impact on a substantial number of these entities as defined in the Regulatory Flexibility Act (5 U.S.C. 601(6)).

The publishing of this agenda does not waive the applicability of the military affairs exemption in section 553 of title 5 U.S.C. and section 3 of Executive Order 12866.

Joo Y. Chung,
Assistant to the Secretary of Defense for Privacy, Civil Liberties, and Transparency, Department of Defense.

Office of the Secretary—Proposed Rule Stage
Sequence No. | Title | Regulation Identifier No.
297 | Cybersecurity Maturity Model Certification (CMMC) Program (Reg Plan Seq No. 19) | 0790-AL49
References in boldface appear in The Regulatory Plan in part II of this issue of the Federal Register.

Defense Acquisition Regulations Council—Proposed Rule Stage
Sequence No. | Title | Regulation Identifier No.
298 | Assessing Contractor Implementation of Cybersecurity Requirements (DFARS Case 2019-D041) (Reg Plan Seq No. 23) | 0750-AK81
References in boldface appear in The Regulatory Plan in part II of this issue of the Federal Register.

Office of Assistant Secretary for Health Affairs—Completed Actions
Sequence No. | Title | Regulation Identifier No.
299 | TRICARE Reimbursement of Ambulatory Surgery Centers and Outpatient Services Provided in Cancer and Children's Hospitals | 0720-AB73

DEPARTMENT OF DEFENSE (DOD)

Office of the Secretary (OS)

Proposed Rule Stage

297. Cybersecurity Maturity Model Certification (CMMC) Program [0790-AL49]

Regulatory Plan: This entry is Seq. No. 19 in part II of this issue of the Federal Register.

RIN: 0790-AL49

DEPARTMENT OF DEFENSE (DOD)

Defense Acquisition Regulations Council (DARC)

Proposed Rule Stage

298. Assessing Contractor Implementation of Cybersecurity Requirements (DFARS Case 2019-D041) [0750-AK81]

Regulatory Plan: This entry is Seq. No. 23 in part II of this issue of the Federal Register.

RIN: 0750-AK81

DEPARTMENT OF DEFENSE (DOD)

Office of Assistant Secretary for Health Affairs (DODOASHA)

Completed Actions

299. TRICARE Reimbursement of Ambulatory Surgery Centers and Outpatient Services Provided in Cancer and Children's Hospitals [0720-AB73]

Legal Authority: 5 U.S.C. 301; 10 U.S.C. ch. 55

Abstract: The Department of Defense, Defense Health Agency, revised its regulation on the reimbursement of ambulatory surgery centers (ASC) and outpatient services provided in Cancer and Children's Hospitals (CCHs). Revisions are in accordance with the statutory provision at section 1079(i)(2) of title 10 of the United States Code, that requires TRICARE's payment methods for institutional care be determined, to the extent practicable, in accordance with the same reimbursement rules as apply to payments to providers of services of the same type under Medicare. In accordance with this requirement, TRICARE adopted Medicare's payment methodology for ASC and adopted Medicare's payment methodology for outpatient services provided in CCHs. Although Medicare's reimbursement methods for ASC and CCHs are different, it was prudent to adopt both the Medicare ASC system and the Outpatient Prospective Payment System with hold-harmless adjustments (meaning the provider is not reimbursed less than their costs) for CCHs simultaneously to align with our statutory requirement to reimburse like Medicare at the same time. This rule made the modifications necessary to implement TRICARE reimbursement methodologies similar to those applicable to Medicare beneficiaries for outpatient services rendered in ASCs and CCHs.

Timetable:

Action | Date | FR Cite
NPRM | 11/29/19 | 84 FR 65718
NPRM Comment Period End | 01/28/20
Final Action | 04/04/23 | 88 FR 19844
Final Action; Correction | 04/27/23 | 88 FR 25492
Final Action Effective | 10/01/23

Regulatory Flexibility Analysis Required: Yes.

Agency Contact: Elan Green, Department of Defense, Office of Assistant Secretary for Health Affairs, 16401 East Centretech Parkway, Aurora, CO 80011, Phone: 303 676-3907, Email: elan.p.green.civ@mail.mil.

RIN: 0720-AB73

[FR Doc. 2024-00516 Filed 2-8-24; 8:45 am]

BILLING CODE 5001-06-P